DEPARTMENT OF ENERGY

Agency Information Collection Under Review by the Office of Management and Budget

AGENCY: Department of Energy.

ACTION: Submission for OMB review; comment request.

SUMMARY: The Department of Energy (DOE), has submitted an information collection package to the OMB for renewal under the Paperwork Reduction Act of 1995. The package requests a 3-year extension of its financial management information collection, OMB Control Number 1910-0500. This information is required by the Department to ensure that financial management resources and requirements are managed efficiently and effectively and to exercise management oversight of DOE contractors.

DATES: Comments regarding the information collection package should be submitted to the OMB Desk Officer at the following address no later than February 12, 2003. If you anticipate that you will be submitting comments, but find it difficult to do so within the period of time allowed by this Notice, please advise the OMB Desk Officer of your intention to make a submission as soon as possible. The Desk Officer may be telephoned at (202) 395-3087. In addition, please notify the DOE contact listed in this Notice.

ADDRESSES: Address comments to the DOE Desk Officer, Office of Information and Regulatory Affairs (OIRA), Office of Management and Budget, New Executive Office Building, Room 10102, 725 17th Street, NW., Washington, DC 20503. Comments should also be addressed to Susan L. Frey, Director, Records Management Division, Office of Business and Information Management, Office of the Chief Information Officer, IM-11/Germantown Bld., U.S. Department of Energy, 1000 Independence Ave, SW., Washington, DC 20585-1290.

SUPPLEMENTARY INFORMATION: The package contains: (1) Title: Financial Management; (2) Current OMB Control Number: 1910-0500; (3) Purpose: This information is required by the Department to ensure that financial management resources and requirements are managed efficiently and effectively and to exercise management oversight of DOE contractors; (4) Type of Respondents: DOE management and operating contractors and offsite contractors; (5) Estimated Number of Responses: 12,626; (6) Estimated Total Burden Hours: 152,704, including recordkeeping hours, required to provide the information; (7) Number of Collections: The package contains 10 information and/or recordkeeping requirements.

STATUTORY AUTHORITY: Section 3506(c)(2)(A) of the Paperwork Reduction Act of 1995 (Pub. L. No. 104-13).

Issued in Washington, DC on January 7, 2003.
Susan L. Frey,
Director, Records Management Division, Office of Business and Information Management, Office of the Chief Information Officer.

[FR Doc. 03-585 Filed 1-10-03; 8:45 am]

BILLING CODE 6450-01-P